DEPARTMENT OF COMMERCE

Foreign-Trade Zones Board

[Docket 48-2011]

Foreign-Trade Zone 109—Watertown, NY, Application for Manufacturing Authority, North American Tapes, LLC, (Textile Athletic Tape), Watertown, NY

A request has been submitted to the Foreign-Trade Zones Board (the Board) by the Jefferson County Industrial Development Authority, grantee of FTZ 109, requesting manufacturing authority on behalf of North American Tapes, LLC (NAT), to manufacture athletic tape under FTZ procedures within FTZ 109. The application was submitted pursuant to the provisions of the Foreign-Trade Zones Act, as amended (19 U.S.C. 81a-81u), and the regulations of the Board (15 CFR Part 400). It was formally filed on July 15, 2011.

The NAT facility (25 employees) is located within FTZ 109 at 22430 Fisher Road in the Jefferson County Industrial Park (Site 1), Watertown, New York. The facility is used to produce pressure-sensitive adhesive athletic tape (e.g., trainers, hockey) with textile backing material for the U.S. market and export. The manufacturing process under FTZ procedures would involve blending, calendaring/laminating, winding, slitting, and packaging. The activity uses production inputs purchased from domestic and foreign sources. The sole material inputs sourced from abroad (representing about 30% of the finished tape's value) are woven cotton and polyester/cotton textile fabrics (duty rates: 10.5, 14.9%). The facility can produce up to 12.5 million square meters of finished athletic tape annually.

FTZ procedures could exempt NAT from customs duty payments on the foreign fabrics used in export production. The company anticipates that some 58 percent of the plant's shipments will be exported. On its domestic sales, NAT would be able to choose the duty rate during customs entry procedures that applies to athletic tape (duty rate: 2.9%) for the foreign-origin textile fabrics noted above. FTZ designation would further allow NAT to realize logistical benefits through the use of weekly customs entry procedures. Customs duties also could possibly be deferred or reduced on foreign status production equipment. NAT would also be exempt from duty payments on foreign fabric that becomes scrap during the production process. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for receipt of comments is September 19, 2011. Rebuttal comments in response to material submitted during the foregoing period may be submitted during the subsequent 15-day period to October 3, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Pierre Duy at Pierre.Duy@trade.gov or (202) 482-1378.

Dated: July 15, 2011.
Elizabeth Whiteman,
Acting Executive Secretary.

[FR Doc. 2011-18301 Filed 7-19-11; 8:45 am]

BILLING CODE